DEPARTMENT OF LABOR

Employment and Training Administration

Workforce Investment Act; Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council as constituted under WIA.

Time and Date: The meeting will begin at 2:45 p.m. Central Standard Time (CST) on Wednesday, May 17, 2006, and continue until 5 p.m. that day. The meeting will reconvene at 1:15 p.m. CST on Thursday, May 18, 2006, and adjourn at approximately 5 p.m. on that day. The period from 2:30 p.m. to 4:30 p.m. on May 18 will be reserved for participation and presentation by members of the public. The meeting will reconvene at 9 a.m. CST on Friday, May 19, 2006, and will adjourn at 12 p.m.

Place: All sessions will be held at the Crowne Plaza Hotel Tulsa, 100 East Second Street, Tulsa, Oklahoma 74103.

Status: The meeting will be open to the public. Persons who need special accommodations should contact the Designated Federal Official (DFO), Ms. Athena Brown, at (202) 693-3737 by May 5, 2006.

Matters to be Considered: The formal agenda will focus on the following topics: (1) Introduction of New/Reappointments to Council; (2) Strategic Planning for Economic Development; (3) Workgroup Reports; (4) White House Interagency Task Force and Building Workforce Capacity/Education Workgroups; and (5) Training and Technical Assistance Regional Sessions.

FOR FURTHER INFORMATION CONTACT: Ms. Athena Brown, DFO, Indian and Native American Programs, Employment and Training Administration, U.S. Department of Labor, Room C-4311, 200 Constitution Avenue, NW., Washington, DC 20210.

Telephone: (202) 693-3737 (VOICE) (this is not a toll-free number) or 202-693-3841.

Signed at Washington, DC, this 24th day of April, 2006.
Thomas M. Dowd,
Deputy Assistant Secretary, Employment and Training Administration.

[FR Doc. E6-6398 Filed 4-27-06; 8:45 am]

BILLING CODE 4510-30-P